DEPARTMENT OF THE INTERIOR

National Park Service

Notice of Availability for the Draft Elk Management Plan and Environmental Impact Statement for Wind Cave National Park, South Dakota

AGENCY: National Park Service.

ACTION: Notice of Availability for the Draft Elk Management Plan and Environmental Impact Statement for Wind Cave National Park, South Dakota.

SUMMARY: Pursuant to Section 102(2)(C) of the National Environmental Policy Act of 1969 (42 U.S.C. 4332(2)(C)), the National Park Service (NPS) announces the availability of a draft Elk Management Plan and Environmental Impact Statement (EIS) for Wind Cave National Park, South Dakota (Park).

DATES: The draft EIS will remain available for public review for 60 days following the publishing of the notice of availability in the Federal Register by the U.S. Environmental Protection Agency. Public meetings will be held during the 60-day review period, but the specific dates and locations will be announced in local and regional media sources of record and on the Park's Web site.

You may submit your comments by any one of several methods. You may comment via the Internet through the NPS Planning, Environment, and Public Comment Web site (http://parkplanning.nps.gov/wica); simply click on the link to Elk Management Plan. You may mail comments to Superintendent Davila, Wind Cave National Park, 26611 U.S. Highway 385, Hot Springs, South Dakota 57747-9430. You may send comments to the Superintendent by facsimile at 605-745-4207. Finally, you may hand-deliver comments to the Park headquarters at the address above.

ADDRESSES: Copies of the draft EIS are available from the Superintendent, Wind Cave National Park, 26611 U.S. Highway 385, Hot Springs, South Dakota 57747-9430.

SUPPLEMENTARY INFORMATION: The Park is proposing to manage its elk population, primarily to prevent impacts to other natural resources in the park, which would occur as the herd size increases. The principal tool the Park had been using to keep population numbers in line with its historic management goals, translocation of live elk, is no longer an option because chronic wasting disease (CWD) is present in the elk population. Therefore, this planning process and the EIS were needed to examine alternatives to translocation. The purpose of this EIS is to identify elk management strategies for the Park that will help achieve elk population levels that are in balance with other native species in the Park, including wildlife and vegetation communities, natural ecosystem functions, and other Park resources.

Several alternative actions, including the No Action, were considered in the development of the draft EIS. These are summarized briefly here. Other alternatives were explored but dismissed; these are discussed in some detail in the draft EIS.

• Alternative A—No Action: No new management actions beyond those utilized as of the commencement of the EIS analysis would be undertaken to manage elk.

• Alternative B (Preferred)—Hunting Outside the Park: Wildlife “gates” would be installed along the boundary fence to allow elk but not bison movement. The gates would be closed during hunting seasons to minimize elk reentry into the Park. Hazing may be used to ensure the appropriate number of elk leave the Park.

• Alternative C—Roundup/Live Ship or Euthanasia within Park: The preferred method in this alternative is capture elk and ship them for slaughter and donation, assuming a partner(s) can be found to be responsible for the transport, slaughter/processing and donation of meat. Donations would be in accordance with the NPS Public Health Program guidelines and no CWD-positive carcasses would be donated. If no partner can be found, the elk would be killed at the park and the carcasses incinerated.

• Alternative D—Sharpshooting: Authorized agents (which include skilled volunteers) would reduce and maintain elk numbers in the Park. Carcasses would be removed from the backcountry and incinerated, or left in place if managers believe their breakdown is environmentally preferred. The CWD test samples will be taken from adult carcasses.

The following alternatives (E and F) are analyzed solely for maintenance of the elk population after initial reduction. At this time, the use of these methods not been proven through science to effectively manage wildlife populations. The park would not use either of these alternatives unless future scientific studies prove these methods to be effective and efficient means of elk population control, and the preferred and adaptive management efforts fail to maintain elk population within the target range. Should this occur alternatives B and F may be carried out as follows.

• Alternative E—Sterilization: Reproductive cow elk would be surgically sterilized to reduce recruitment and growth of the herd. Because these techniques have not been used on free-ranging elk, this option would be used to maintain target population after initial reduction efforts. Sterilized cows would be marked (ear tag, freeze branding, etc.) to reduce the risk of these animals being hunted outside the Park or recaptured for sterilization inside the Park.

• Alternative F—Fertility Control Agents: Cow elk would be treated with chemical fertility control agents to limit calving. It is considered a population maintenance tool after initial reduction efforts. No chemical contraceptives meeting Park needs are currently available; however, future agents may become available and would be considered for use if they are: Effective with a single treatment, at least 85 percent effective, have appropriate approvals and certifications, safe for treated animals, without recognizable behavioral effects, safe for non-target animals, and effective for more than 1 year.

FOR FURTHER INFORMATION CONTACT: Contact Superintendent Davila at the address above or by telephone at 605-745-4600.

Before including your address, telephone number, electronic mail address, or other personal identifying information in your comments, you should be aware that your entire comment (including your personal identifying information) may be made publicly available at any time. While you can ask us in your comments to withhold your personal identifying information from public review, we cannot guarantee that we will be able to do so. We will make all submissions from organizations or businesses, from individuals identifying themselves as representatives or officials, of organizations or businesses, available for public inspection in their entirety.

Dated: June 2, 2008.
Ernest Quintana,
Regional Director, Midwest Region.

[FR Doc. E8-12992 Filed 6-11-08; 8:45 am]

BILLING CODE 4312-AC-P